DEPARTMENT OF AGRICULTURE

Forest Service

Revision of the Land Management Plan for Francis Marion National Forest

AGENCY: Forest Service, USDA.

ACTION: Notice of the opportunity to object to the Revised Land Management Plan for the Francis Marion National Forest prior to approval

SUMMARY: The Francis Marion National Forest, located in South Carolina, has prepared an environmental impact statement, a revised land management plan and a draft record of decision. This notice is to inform the public that a 60-day period is being initiated where individuals or entities with specific concerns on the Francis Marion's Revised Land Management Plan and its associated Final Environmental Impact Statement may file an objection for a Forest Service review prior to the approval of the Revised Land Management Plan.

DATES: The Francis Marion's Revised Land Management Plan, Final Enviromental Impact Statement, Draft Record of Decision, and other supporting information, will be available for review at http://www.fs.usda.gov/detail/scnfs/landmanagement/planning/?cid=stelprdb5393142 starting August 19, 2016.

A legal notice of the initiation of the 60-day objection period is also being published in the Francis Marion and Sumter National Forests newspaper of record, which is The State. The date of the publication of the legal notice in The State will determine the actual date of initiation of the 60-day objection period. A copy of the legal notice that is published in The State will be posted on the Web site described above.

ADDRESSES: Copies of the Revised Land Mangement Plan for the Francis Marion National Forest, Final Environment Impact Statement, and Draft Record of Decision can be obtained online at: http://www.fs.usda.gov/detail/scnfs/landmanagement/planning/?cid=stelprdb5393142 or at the following offices:

• Supervisor's Office, 4931 Broad River Road, Columbia, SC 29212 (Telephone: 803-561-4000)

• Francis Marion District Office, 2967 Steed Creek Road, Huger, SC 29450 (Telephone: 843-336-3248)

Objections must be submitted to the Reviewing Officer Tony Tooke, Regional Forester, at USDA-Forest Service, ATTN: Objection Reviewing Officer, 1720 Peachtree Street, Atlanta, GA 30309 (Telephone: 404-347-4177; Fax: 404-347-4821). Or objections may be submitted electronically at objections-southern-regional-office@fs.fed.us

Note that the office hours for submitting a hand-delivered objection are 8:00 a.m. to 4:30 p.m. Monday through Friday, excluding Federal holidays. Electronic objections must be submitted in a commonly used format such as an email message, plain text (.txt), rich text format (.rtf) or Microsoft Word® (.doc or .docx).

FOR FURTHER INFORMATION CONTACT: Mary Morrison, Forest Planner, Francis Marion National Forest at 803-561-4000. Individuals who use telecommunication devices for the deaf (TDD) may call the Federal Information Relay Service (FIRS) at 1-800-877-8339 between 8:00 a.m. and 8:00 p.m. (Eastern time), Monday through Friday.

SUPPLEMENTARY INFORMATION: The Forest Service, Southern Region, Francis Marion National Forest, has prepared a Revised Land Mangement Plan, Final Environmental Impact Statement, and a Draft Record of Decision. This notice is to inform the public that a 60-day period is being initiated where individuals or entities with specific concerns on the Francis Marion's Revised Land Management Plan and its associated Final Environmental Impact Statement may file an objection for a Forest Service review prior to the approval of the Revised Land Management Plan. The publication date of the legal notice in the Francis Marion and Sumter National Forests newspaper of record, The State, will initiate the 60-day objection period and is the exclusive means for calculating the time to file an objection (36 CFR 219.16 and 219.52). An electronic scan of the notice with the publication date will be posted at the Francis Marion National Forest Web site at: http://www.fs.usda.gov/detail/scnfs/landmanagement/planning/?cid=stelprdb5393142.

The objection process under 36 CFR 219 subpart B, provides an opportunity for members of the public who have participated in the planning process for the Francis Marion National Forest to have any unresolved concerns reviewed by the Forest Service prior to a final decision by the Responsible Official. Only those who provided substantive formal comments during opportunities for public comment during the planning process are eligible to file an objection. Regulations at 36 CFR 219.62 define substantive formal comments as:

“Written comments submitted to, or oral comments recorded by, the responsible official or his designee during an opportunity for public participation provided during the planning process, and attributed to the individual or entity providing them. Comments are considered substantive when they are within the scope of the proposal, are specific to the proposal, have a direct relationship to the proposal, and include supporting reasons for the responsible official to consider.”

How to File an Objection

The Forest Service will accept mailed, emailed, faxed, and hand-delivered objections concerning the Revised Land Management Plan and associated Final Environmental Impact Statement for 60 calendar days following the date of the publication of the legal notice of this objection period in newspaper of record, The State. It is the responsibility of the objector to ensure that the Reviewing Officer receives the objection in a timely manner. The regulations prohibit extending the length of the objection filing period.

Objections must be submitted to the Reviewing Officer, who will be Tony Tooke, Regional Forester for the Southern Region, at the address shown in the ADDRESSES section of this notice. Objections or objection content specific to the identification of species of conservation concern will be forwarded to Brian Ferebee, Associate Deputy Chief, delegated Reviewing Officer for the Chief of the Forest Service.

An objection must include the following (36 CFR 219.54(c)):

(1) The objector's name and address along with a telephone number or email address if available—in cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan revision being objected to, and the name and title of the Responsible Official;

(5) A statement of the issues and/or parts of the plan revision to which the objection applies;

(6) A concise statement explaining the objection and suggesting how the proposed plan decision may be improved. If the objector believes that the plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management plans or other published Forest Service documents,

c. Documents referenced by the Forest Service in the planning documentation related to the proposal subject to objection, and

d. Formal comments previously provided to the Forest Service by the objector during the plan revision comment period.

Responsible Official

The responsible official for the revision of the land management plan for the Francis Marion National Forest is Rick Lint, Forest Supervisor, Francis Marion and Sumter National Forests, 4931 Broad River Road, Columbia, SC 29212.

Dated: August 10, 2016.
John Richard Lint,
Forest Supervisor.

[FR Doc. 2016-19608 Filed 8-16-16; 8:45 am]

BILLING CODE 3411-15-P